DEPARTMENT OF AGRICULTURE

Rural Utilities Service

Environmental Review of Telecommunications Program Projects

AGENCY: Rural Utilities Service, USDA.

ACTION: Request for public comment.

SUMMARY: The Rural Utilities Service (RUS), an agency of the United States Department of Agriculture, hereinafter referred to as “agency,” seeks public and Federal agency comments regarding the preparation of a Programmatic Environmental Assessment for the development of a more efficient and effective environmental review process for the RUS Telecommunications Program—an environmental review process that is commensurate with the potential environmental impacts of both wired and wireless projects financed by the agency. RUS is seeking comment from interested stakeholders to contribute to the development of agency procedures for implementing the environmental review procedures of the Telecommunications Infrastructure Loan Program, Farm Bill Broadband Loan Program, Community Connect Grant Program, and Distance Learning and Telemedicine Program. The proposed review process will support the agency's mission of facilitating the development of affordable, reliable utility infrastructure to improve the quality of life and promote economic development in rural America.

DATES: Interested parties must submit written comments on or before January 27, 2015.

ADDRESSES: Submit comments, identified by docket number RUS-14-Telecom-0008, by any of the following methods:

Federal eRulemaking Portal: http://www.regulations.gov. Follow instructions for submitting comments.

Postal Mail/Commercial Delivery/Hand Delivery: Michele Brooks, Director, Program Development and Regulatory Analysis, USDA Rural Development, 1400 Independence Avenue SW., STOP 1522, Room 5159, Washington, DC 20250-1522.

RUS will post all comments received without change, including any personal information that is included with the comment, on http://www.regulations.gov. Comments will be available for inspection online at http://www.regulations.gov and at the address listed above between 8:00 a.m. and 4:30 p.m., Monday through Friday, except holidays. A copy of this publication is also available through the Rural Development homepage at http://www.rurdev.usda.gov/RDU_FederalRegisterPubs.html. Additional information about the Agency and its programs is available on the Internet at http://www.rurdev.usda.gov/home.html.

FOR FURTHER INFORMATION CONTACT: Emily Orler, USDA, Rural Utilities Service, 1400 Independence Avenue SW., Stop 1571, Room 2244-S, Washington, DC 20250-1570, Telephone (202) 720-1414 or email to: Emily.Orler@wdc.usda.gov.

SUPPLEMENTARY INFORMATION:

Background

The RUS Telecommunications Program provides a variety of loans and grants to build and expand broadband networks in rural America. Loans to build broadband networks and deliver service to households and businesses in rural communities provide a necessary source of capital for rural telecommunications companies, broadband, wireless companies, and fiber-to-the-home providers. Grant funding is awarded based on a number of factors relating to the benefits to be derived from the proposed broadband network project, as specified in applicable program regulations.

Eligible applicants for RUS loans and grants include for-profit and non-profit entities, tribes, municipalities, and cooperatives. The agency particularly encourages investment in tribal and economically disadvantaged areas. Through low-cost funding for broadband infrastructure, rural residents can have access to broadband services that will close the digital divide between rural and urban communities, that is sustainable over time, and is crucial for economic development. Once funds are awarded, RUS monitors the projects to make sure they are completed in accordance with program requirements. Each loan and grant program has different applicants, project eligibility requirements, and program objectives.

The Telecommunications Program includes the following programs:

Telecommunications Infrastructure Loan Program provides loans for a variety of applicable technologies, for the costs of construction, improvement, expansion, and acquisition (some restrictions apply) of facilities and equipment to provide telecommunications services in rural areas;

Farm Bill Broadband Loan Program provides loans for a variety of applicable technologies, for costs of construction, improvement, expansion, and acquisition (some restrictions apply) of facilities and equipment to provide broadband service to eligible rural communities;

Community Connect Grant Program provides grants to eligible applicants for broadband access to rural communities currently without broadband service. Priority is given to areas where development of new broadband services will improve economic development and provide enhanced educational and healthcare opportunities. The program serves the most rural, lowest income communities without existing broadband access; and

Distance Learning and Telemedicine Grant Program provides grants for distance learning and telemedicine in rural areas through the use of telecommunications, computer networks, and related advanced technologies to be used by students, teachers, medical professionals, and other rural residents. Grants are awarded based on rurality and economic need through a competitive process and may be used to fund telecommunications-enabled information, audio, and video equipment.

In accordance with the National Environmental Policy Act (NEPA), National Historic Preservation Act (NHPA), the Endangered Species Act (ESA) and other applicable environmental statutes, regulations, and Executive Orders, RUS must evaluate the environmental impact of its actions prior to taking those actions. RUS actions include the approval of financial assistance for project proposals by eligible applicants within eligible service areas.

The application process for requesting financial assistance for the Telecommunications programs varies slightly from a competitive grant program, individual project proposals, or multi-year “loan design” applications. Accordingly, each program's application process and resulting environmental review process is administered differently. The agency seeks to synchronize future environmental review compliance processes for all Telecommunications Programs and develop a more efficient and effective environmental review process commensurate to the potential environmental impacts of Telecommunications Program projects.

The Programmatic Environmental Assessment of the Telecommunications Program will provide an analysis of the RUS administrative record of past Telecommunications Program projects regarding NEPA, NHPA, and ESA. The analysis will address telecommunication technologies and construction methods, and evaluate alternative program delivery processes for individual projects and loan design applications relevant to existing and future RUS Telecommunications Program projects. If appropriate, the Programmatic Environmental Assessment will provide a basis for preliminary environmental review decisions.

Request for Comment

Stakeholder input is vital to improving delivery of the Telecommunications Program to agency participants and the public. The following questions are intended to guide stakeholder comments; however, RUS welcomes pertinent comments beyond the scope of these questions. RUS is requesting comment and discussion from the following stakeholders:

Interested or Affected Citizens

1. What are your primary concerns with the construction of wired broadband infrastructure in or near road rights-of-way, on existing electrical distribution poles or towers, or on new poles or towers?

2. What environmental issues do you want studied as part of the environmental review of Telecommunications Program projects? Please address your recommendations for wired or wireless technology projects.

3. What environmental protection and design and construction standards would you like Telecommunications Program participants to use during project construction?

4. How would you like to be involved in RUS and applicant planning for broadband projects?

5. How would you benefit from broadband availability or improvements in your area?

Broadband Providers

1. What are your greatest challenges in completing environmental reviews, including NEPA, NHPA, and ESA for both wired and wireless technologies?

2. For projects requiring the use of Federal land, what are the greatest challenges in obtaining the necessary land use authorizations or permits?

3. What do you believe is a reasonable length of time for RUS to consider a completed loan application, including environmental reviews and compliance, before making a decision to fund a project?

4. What should RUS do to expedite the completion of environmental reviews and compliance during the review of project applications, particularly for projects that cross land with multiple ownership, i.e., private, Federal, state, or tribal lands?

5. What additional guidance do you want from RUS field personnel to assist you in completing the necessary requirements for a loan or grant application, including environmental reviews and Federal land use permits if they are needed?

6. What environmental protection measures and/or design and construction standard operating procedures for environmental protection have you found to be most efficient and cost-effective?

Federal Land Management and Other Agencies as Appropriate

1. How and when would you like to be contacted regarding a pending Telecommunications Program project application that relates to or affects your agency's responsibilities?

2. Telecommunications Program projects at times require the use of Federal land, requiring authorization by the relevant Federal land management agency. The land use request prepared by the applicant is summarized in a SF-299 form with appropriate attachments. What information, studies, and reports are most important to you in fulfilling your agency's responsibilities for environmental review of the decision to authorize, modify, or deny a requested land use? Is there a difference in requested information if the proposal is a wired or wireless proposal?

3. If your agency requires an applicant to submit environmental information to be evaluated during the consideration of a request to use Federal land, how is guidance provided to the applicant by your agency prior to completion of the SF-299? What role should the Telecommunications Program play in providing guidance to such applicants?

4. The Programmatic Environmental Assessment of the Telecommunications Program will outline the Federal land management agencies' categorical exclusions and procedures for identifying extraordinary circumstances. The RUS environmental document will also acknowledge that the use and occupancy of Federal land by some Telecommunications Program projects is necessary and, in particular circumstances with necessary authorizations, appropriate. What barriers do you envision in adopting a RUS environmental document in the consideration of your agency's decisions to authorize a special use permit by a Telecommunications Program participant?

5. How can RUS and other Federal agencies work together to share information as well as train managers and staff at the field levels regarding broadband issues and necessary environmental reviews and Federal decisionmaking, including land use authorizations?

Dated: November 4, 2014.
Jasper Schneider,
Acting Administrator, Rural Utilities Service.

[FR Doc. 2014-28100 Filed 11-26-14; 8:45 am]

BILLING CODE P